DEPARTMENT OF TRANSPORTATION

Federal Aviation Administration

14 CFR Part 39

[Docket No. FAA-2022-0293; Project Identifier MCAI-2021-01125-G; Amendment 39-22079; AD 2022-12-07]

RIN 2120-AA64

Airworthiness Directives; Alexander Schleicher GmbH & Co. Segelflugzeugbau Gliders

AGENCY: Federal Aviation Administration (FAA), DOT.

ACTION: Final rule.

SUMMARY: The FAA is superseding Airworthiness Directive (AD) 75-23-03 for all Alexander Schleicher GmbH & Co. Segelflugzeugbau (Alexander Schleicher) Model Ka2B, Ka 6, Ka 6 B, Ka 6 BR, Ka 6 C, Ka 6 CR, K 7, K 8, and AS-K 13 gliders. AD 75-23-03 required visually inspecting the glue joint between the elevator nose rib number 1 and the nose plywood skin and replacing the glue joint if insufficient glue adhesion was found. Since the FAA issued AD 75-23-03, the European Union Aviation Safety Agency (EASA) superseded prior EASA ADs for the unsafe condition on these products. This AD adds the Model K 8 B gliders to the applicability and requires repetitively inspecting the glue joint at elevator rib number 1 and repairing any damage found. The FAA is issuing this AD to address the unsafe condition on these products.

DATES: This AD is effective July 21, 2022.

The Director of the Federal Register approved the incorporation by reference of a certain publication listed in this AD as of July 21, 2022.

ADDRESSES: For service information identified in this final rule, contact Alexander Schleicher GmbH & Co. Segelflugzeugbau, Alexander-Schleicher-Str. 1, Poppenhausen, Germany D-36163; phone: +49 (0) 06658 89-0; email: info@alexander-schleicher.de; website: https://www.alexander-schleicher.de. You may view this service information at the FAA, Airworthiness Products Section, Operational Safety Branch, 901 Locust, Kansas City, MO 64106. For information on the availability of this material at the FAA, call (817) 222-5110. It is also available at https://www.regulations.gov by searching for and locating Docket No. FAA-2022-0293.

Examining the AD Docket

You may examine the AD docket at https://www.regulations.gov by searching for and locating Docket No. FAA-2022-0293; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Jim Rutherford, Aviation Safety Engineer, General Aviation & Rotorcraft Section, International Validation Branch, FAA, 901 Locust, Room 301, Kansas City, MO 64106; phone: (816) 329-4165; email: jim.rutherford@faa.gov.

SUPPLEMENTARY INFORMATION:

Background

The FAA issued a notice of proposed rulemaking (NPRM) to amend 14 CFR part 39 to supersede AD 75-23-03, Amendment 39-2414 (40 FR 50706, October 31, 1975) (AD 75-23-03). AD 75-23-03 applied to all Alexander Schleicher Model Ka2B, Ka 6, Ka 6 B, Ka 6 BR, Ka 6 C, Ka 6 CR, K 7, K 8, and AS-K 13 gliders. AD 75-23-03 required visually inspecting the glue joint between the elevator nose rib number 1 and the nose plywood skin and replacing the glue joint if insufficient glue adhesion was found.

The NPRM published in the Federal Register on March 28, 2022 (87 FR 17204). The NPRM was prompted by AD 2021-0230, dated October 14, 2021 (referred to after this as “the MCAI”), issued by EASA, which is the Technical Agent for the Member States of the European Union. The MCAI states:

An occurrence was reported of structural failure of an elevator during winch launching of a K 7 sailplane. Subsequent investigation results determined that the occurrence was due to damaged glue of the elevator's rib No. 1.

This condition, if not detected and corrected, could affect the structural integrity of an elevator, possibly resulting in reduced control of the aeroplane.

To address this potential unsafe condition, Schleicher issued the glued joint inspection TN [Technical Note], as defined in this [EASA] AD, to provide inspection instructions and LBA Germany issued AD 72-7 (later revised) to require those actions.

Since that [LBA Germany] AD was issued, additional similar occurrences were reported of structural elevator failure, also on (powered) sailplanes originally not affected by LBA 72-7/3. Prompted by this development, Schleicher issued the applicable TN, providing inspections instructions for all (powered) sailplanes having an elevator of a similar design and making the inspections dependent also on the number of take-offs.

For the reason described above, this [EASA] AD supersedes LBA Germany AD 72-7/3 [dated December 13, 1989] and requires repetitive inspections of the elevator and, depending on findings, accomplishment of applicable corrective action(s).

In the NPRM, the FAA proposed to require repetitively inspecting the glue joint between elevator rib number 1 and the plywood skin and repairing if necessary. In the NPRM, the FAA also proposed to add Model K 8 B gliders to the applicability. The FAA is issuing this AD to prevent structural failure of an elevator, which could lead to loss of glider control.

You may examine the MCAI in the AD docket at https://www.regulations.gov by searching for and locating Docket No. FAA-2022-0293.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting the AD as proposed. Accordingly, the FAA is issuing this AD to address the unsafe condition on these products. This AD is adopted as proposed in the NPRM.

Related Service Information Under 1 CFR Part 51

The FAA reviewed Alexander Schleicher GmbH & Co. Segelflugzeugbau Appendix 01-2021, Flight and Operating Manual, dated March 1, 2021. This service information specifies procedures for protecting the glider from moisture and repetitively inspecting the glue joint between elevator rib number 1 and the plywood skin. This service information is reasonably available because the interested parties have access to it through their normal course of business or by the means identified in the ADDRESSES section.

Differences Between This AD and the MCAI

The MCAI applies to Model ASK 16, ASK 16B, ASK 18, ASK 18 B, K 8 C, and Ka 6/0 gliders, and this AD does not because they do not have an FAA type certificate.

This AD includes the Model Ka2B glider whereas the MCAI does not.

Although the technical notes required by the MCAI specify to report findings of damage to the manufacturer, this AD does not require that action.

Costs of Compliance

The FAA estimates that this AD affects 83 gliders of U.S. registry. The FAA also estimates that it will take 4 work-hours per glider to inspect the glue joint at elevator rib number 1 and requires parts costing $50. The average labor rate is $85 per work-hour.

Based on these figures, the FAA estimates the cost on U.S. operators to be $32,370 or $390 per glider, per inspection cycle.

The FAA estimates that replacing the glue joint, if necessary, takes 8 work-hours and requires parts costing $250 for an estimated cost of $930 per glider. The FAA has no way of determining the number of gliders that may need this action.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 75-23-03, Amendment 39-2414 (40 FR 50706, October 31, 1975); and

b. Adding the following new airworthiness directive:

2022-12-07 Alexander Schleicher GmbH & Co. Segelflugzeugbau: Amendment 39-22079; Docket No. FAA-2022-0293; Project Identifier MCAI-2021-01125-G.

(a) Effective Date

This airworthiness directive (AD) is effective July 21, 2022.

(b) Affected ADs

This AD replaces AD 75-23-03, Amendment 39-2414 (40 FR 50706, October 31, 1975).

(c) Applicability

This AD applies to Alexander Schleicher GmbH & Co. Segelflugzeugbau Model Ka2B, Ka 6, Ka 6 B, Ka 6 BR, Ka 6 C, Ka 6 CR, K 7, K 8, K 8 B, and AS-K 13 gliders, all serial numbers, certificated in any category.

(d) Subject

Joint Aircraft System Component (JASC) Code 5521, Elevator, Spar/Rib Structure.

(e) Unsafe Condition

This AD was prompted by mandatory continuing airworthiness information (MCAI) originated by an aviation authority of another country to identify and correct an unsafe condition on an aviation product. The MCAI describes the unsafe condition as structural failure of an elevator during winch launching. The FAA is issuing this AD to prevent structural failure of an elevator, which could lead to loss of glider control.

(f) Compliance

Comply with this AD within the compliance times specified, unless already done.

(g) Actions

Within 30 days after the effective date of this AD and thereafter at intervals not to exceed 12 months or 500 flight cycles, whichever occurs first, inspect the glue joint between elevator rib number 1 and the plywood skin for damage by following section 3 of Alexander Schleicher GmbH & Co. Segelflugzeugbau Appendix 01-2021, Flight and Operating Manual, dated March 1, 2021. For purposes of this AD, a flight cycle would be counted anytime the glider launches and then lands. If there is any damage on the glue joint, repair before further flight.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(1) of this AD and email to: 9-AVS-AIR-730-AMOC@faa.gov.

(2) Before using any approved AMOC, notify your appropriate principal inspector, or lacking a principal inspector, the manager of the local flight standards district office/certificate holding district office.

(i) Related Information

(1) For more information about this AD, contact Jim Rutherford, Aviation Safety Engineer, General Aviation & Rotorcraft Section, International Validation Branch, FAA, 901 Locust, Room 301, Kansas City, MO 64106; phone: (816) 329-4165; email: jim.rutherford@faa.gov.

(2) Refer to European Union Aviation Safety Agency (EASA) AD 2021-0230, dated October 14, 2021, for more information. You may examine the EASA AD at https://www.regulations.gov by searching for and locating Docket No. FAA-2022-0293.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Alexander Schleicher GmbH & Co. Segelflugzeugbau Appendix 01-2021, Flight and Operating Manual, dated March 1, 2021.

(ii) [Reserved]

(3) For service information identified in this AD, contact Alexander Schleicher GmbH & Co. Segelflugzeugbau, Alexander-Schleicher-Str. 1, Poppenhausen, Germany D-36163; phone: +49 (0) 06658 89-0; email: info@alexander-schleicher.de; website: https://www.alexander-schleicher.de.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: https://www.archives.gov/federal-register/cfr/ibr-locations.html.

Issued on June 6, 2022.
Gaetano A. Sciortino,
Deputy Director for Strategic Initiatives, Compliance & Airworthiness Division, Aircraft Certification Service.

[FR Doc. 2022-12869 Filed 6-15-22; 8:45 am]

BILLING CODE 4910-13-P